DEPARTMENT OF COMMERCE

International Trade Administration

A-427-827

Sodium Metal from France: Postponement of Preliminary Determination of Antidumping Duty Investigation

AGENCY: Import Administration, International Trade Administration, Department of Commerce.

EFFECTIVE DATE: March 18, 2008.

FOR FURTHER INFORMATION CONTACT: Dennis McClure or Joy Zhang, AD/CVD Operations, Office 3, Import Administration, International Trade Administration, U.S. Department of Commerce, 14th Street and Constitution Avenue, NW, Washington, DC 20230, telephone: (202) 482-5973 or (202) 482-1168, respectively.

SUPPLEMENTARY INFORMATION:

Background

On November 13, 2007, the Department of Commerce (the Department) initiated the antidumping duty investigation of sodium metal from France. See Sodium Metal from France: Notice of Initiation of Antidumping Duty Investigation, 72 FR 65295 (November 20, 2007). The notice of initiation stated that the Department would issue its preliminary determination for this investigation no later than 140 days after the date of issuance of the initiation, in accordance with section 733(b)(1)(A) of the Tariff Act of 1930, as amended (the Act). The preliminary determination is currently due no later than April 1, 2008.

Postponement of Preliminary Determination

On February 29, 2008, the petitioner, E.I. DuPont de Nemours & Co. Inc., made a timely request pursuant to section 733(c)(1)(A) of the Act and 19 CFR 351.205(b)(2) and (e) for a 50-day postponement of the preliminary determination. The petitioner requested postponement of the preliminary determination in order to allow for additional time to evaluate the respondent's questionnaire response in this investigation. Under section 733(c)(1)(A) of the Act, if the petitioner makes a timely request for an extension of the period within which the preliminary determination must be made under subsection (b)(1), then the Department may postpone making the preliminary determination under subsection (b)(1) until not later than the 190th day after the date on which the administrative authority initiated the investigation. For the reason identified by the petitioner and because there are no compelling reasons to deny the request, the Department is postponing the deadline for the preliminary determination under section 733(c)(1)(A) of the Act by 50 days to May 21, 2008. The deadline for the final determination will continue to be 75 days after the date of the preliminary determination, unless extended.

This notice is issued and published pursuant to section 733(c)(2) of the Act and 19 CFR 351.205(f)(1).

Dated: March 12, 2008.
David M. Spooner,
Assistant Secretary for Import Administration.

[FR Doc. E8-5414 Filed 3-17-08; 8:45 am]

BILLING CODE 3510-DS-S